DEPARTMENT OF COMMERCE

National Telecommunications and Information Administration

[Docket No. [000609173-0173-01]

RIN 0660-XX08

Public Meeting, Request for Comment on All-Hazard Warning Network

AGENCY: National Telecommunications and Information Administration, Department of Commerce.

ACTION: Notice of public meeting, request for public comment.

SUMMARY: The Assistant Secretary for Communications and Information and Administrator of the National Telecommunications and Information Administration (NTIA), Gregory L. Rohde, in cooperation with the All-Hazard Warning Interagency Working Group, will host a roundtable discussion on July 17, 2000 that will be open to the public to explore hazard warning systems. Recent technological advances are fostering new and innovative methods of bringing warning messages to the public. This notice, through a series of questions, requests public comment on issues relating to the means by which government agencies and public and private sectors can work together to ensure that hazard warning systems are developed to save more lives.

DATES: The All-Hazard Warning Roundtable will be held from 9:30-11:30 a.m., Monday, July 17, 2000. Written comments must be filed on or before August 18, 2000. Written reply comments must be filed on or before September 1, 2000.

ADDRESSES: The All-Hazard Warning Roundtable will be held from 9:30-11:30 a.m. on July 17, 2000, at the U.S. Department of Commerce, Room 4830, 1401 Constitution Avenue, NW., Washington, DC 20230. The meeting will be open to the public. For current information on the roundtable, please see NTIA's website at http://www.ntia.doc.gov.

The Department invites the public to submit written comments on paper or electronic form. Comments may be mailed to Jeng Mao, Public Safety Program, National Telecommunications and Information Administration (NTIA), U.S. Department of Commerce, Room 4624, 1401 Constitution Avenue, NW., Washington, DC 20230. In the alternative, comments may be submitted in electronic form to the following electronic mail address: <warnings@ntia.doc.gov>.

Submission of Documents

Written Comments

Paper submissions should include three paper copies and a version on a diskette in PDF, ASCII, WordPerfect (please specify version) or Microsoft Word (please specify version) format. Diskettes should be labeled with the name of the party, and the name and version of the word processing program used to create the document. Comments and reply comments submitted via e-mail to <warnings@ntia.doc.gov> should also be submitted in the formats specified above.

All comments and reply comments should be captioned “All-Hazard Warning—Comment [or Reply Comment], Docket No. 000609173-0173-01.” Comments and reply comments should be numbered and organized in response to the questions set forth in this Notice.

Comments and reply comments received will be posted on the NTIA web site at http://www.ntia.doc.gov.

FOR FURTHER INFORMATION CONTACT: Jeng Mao, Public Safety Program, National Telecommunications and Information Administration at either telephone number (202) 501-0342 or electronic mail <jmao@ntia.doc.gov>.

Media inquiries should be directed to NTIA's Office of Public Affairs at (202) 482-7002.

SUPPLEMENTARY INFORMATION:

Background

In 1998, Vice President Gore's National Partnership for Reinventing Government (NPR) brought together representatives from more than a dozen Federal agencies to form an inter-agency working group to explore ways of improving the Nation's hazard warning systems to save lives. This group is working to do this by finding combined solutions to give people better, faster, and more effective hazard warnings. As a result of its efforts, the inter-agency working group published Saving Lives With an All-Hazard Warning Network in December 1999. This report made several important observations about the current warning system and the future needs for effective warnings.

Currently, the National Oceanic and Atmospheric Administration (NOAA) Weather Radio is the most direct way to warn people about all impending hazards. Recent technological advances, however, have fostered new and innovative methods of bringing hazard warnings to the public. To reach the maximum number of people, we must utilize all available communications technologies—both current and emerging—to deliver better, faster, more affordable, and more effective hazard warnings. Partnerships between government agencies and public and private parties will help to ensure that these life saving hazard warnings are provided through various means of communication available to consumers. These communications technologies include both wireline and wireless telephone services, Internet, paging, broadcast television and radio, both satellite and cable television, and emerging technologies.

Questions for Public Comment

Interested parties are requested to submit written comments on any issue of fact, law, or policy that may inform the U.S. Department of Commerce on hazard warnings. Specifically, comments are requested on the questions below. These questions are designed to assist the public and should not be construed as a limitation on the issues on which public comments may be submitted. Comments should cite the number of the question(s) being addressed. Please provide copies of any studies, research and other empirical data referenced in the comments.

1. Is it technologically feasible today to deliver hazard warnings: to wireless devices, such as cell phones and pagers; over the Internet to users who are online; to standard telephones in the form of a call warning; to broadcast television; to satellite services; to cable television; and to emerging and developing technologies?

2. What are the tradeoffs among technology options?

3. What are the economic impediments, if any, to the use of any of the technologies that might be used to disseminate hazard warnings?

4. What are the legal impediments, if any, to the use of any of the technologies that might be used to disseminate hazard warnings?

5. What legal measures, if any, should be taken to foster the delivery of hazard warnings?

6. What economic and technological policy measures, if any, should be taken to foster the dissemination of hazard warnings?

PUBLIC PARTICIPATION: The All-Hazard Warning Roundtable is open to the public on a first-come, first-served basis and physically accessible to people with disabilities. To facilitate entry into the Department of Commerce building, please have a photo identification available and/or a U.S. Government building pass if applicable. Any member of the public wishing to attend and requiring special services, such as a sign language interpretation or other ancillary aids, should contact Jeng Mao, Public Safety Program, U.S. Department of Commerce, at least five (5) working days prior to the All-Hazard Warning Roundtable, at either telephone number (202) 501-0342 or electronic mail at <jmao@ntia.doc.gov>.

Gregory L. Rohde,
Assistant Secretary for Communications and Information.

[FR Doc. 00-16405 Filed 6-28-00; 8:45 am]

BILLING CODE 3510-60-P